FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202)-523-5793 or tradeanalysis@fmc.gov.

Agreement No.: 011346-019.

Title: Israel Trade Conference Agreement.

Parties: A.P. Moller-Maersk A/S; Maersk Line Limited; and Zim Integrated Shipping Services, Ltd.

Filing Party: Howard A. Levy, Esq.; Chairman; Israel Trade Conference; 80 Wall Street, Suite 1117; New York, NY 10005-3602.

Synopsis: The amendment adds American President Lines, Ltd. as a party to the agreement.

Agreement No.: 011443-005.

Title: Space Charter and Cooperative Working Agreement Between NYK and WWL.

Parties: Nippon Yusen Kaisha and Wallenius Wilhelmsen Lines AS.

Filing Party: Wayne R. Rohde, Esq.; Sher & Blackwell LLP; 1850 M Street, NW.; Suite 900; Washington, DC 20036.

Synopsis: The amendment deletes rate-discussion authority and revises the delegation of authority under the agreement.

Agreement No.: 201205.

Title: North American Maritime Services Cooperative Working Agreement.

Parties: Ceres Terminals Incorporated; International Transportation Service, Inc.; Marinus Consulting, Inc.; and North American Maritime Services, LLC.

Filing Party: Wayne R. Rohde, Esq.; Sher and Blackwell LLP; 1850 M Street, NW.; Suite 900; Washington, DC 20036.

Synopsis: The agreement would authorize the parties to form and manage a joint venture limited liability company to provide stevedoring and other services for the loading and unloading of roll-on/roll-off and other cargoes at ports in the United States and in other countries.

Dated: February 4, 2010.
By Order of the Federal Maritime Commission.
Karen V. Gregory,
Secretary.

[FR Doc. 2010-2820 Filed 2-8-10; 8:45 am]

BILLING CODE 6730-01-P